ENVIRONMENTAL PROTECTION AGENCY

40 CFR Part 52

[EPA-R08-OAR-2024-0389; FRL-12173-02-R8]

Air Plan Partial Approval and Partial Disapproval; Utah; Regional Haze State Implementation Plan for the Second Implementation Period; Air Plan Disapproval; Utah; Prong 4 (Visibility) for the 2015 8-Hour Ozone National Ambient Air Quality Standard

AGENCY: Environmental Protection Agency (EPA).

ACTION: Final rule.

SUMMARY: The Environmental Protection Agency (EPA) is partially approving and partially disapproving a regional haze state implementation plan (SIP) revision submitted by the State of Utah on August 2, 2022 (Utah's regional haze SIP submission), to address applicable requirements under the Clean Air Act (CAA) and the EPA's Regional Haze Rule (RHR) for the regional haze program's second implementation period. Additionally, the EPA is disapproving the visibility transport “Prong 4” portion of Utah's infrastructure SIP submission submitted on January 9, 2020, for the 2015 Ozone National Ambient Air Quality Standard (NAAQS). The EPA is taking these actions pursuant to the CAA.

DATES: This rule is effective on January 2, 2025.

ADDRESSES: The EPA has established a docket for this action under Docket ID No. EPA-R08-OAR-2024-0389. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Clayton Bean, Air and Radiation Division, EPA, Region 8, Mailcode 8ARD-IO, 1595 Wynkoop Street, Denver, Colorado 80202-1129, telephone number: (303) 312-6143, email address: bean.clayton@epa.gov.

SUPPLEMENTARY INFORMATION: Throughout this document “we,” “us,” and “our” means the EPA.

Table of Contents

I. What is being addressed in this document?

II. Summary of the Proposed Action, Public Comments, and the EPA's Rationale for Final Action

A. Regional Haze Plan for the Second Implementation Period

B. Prong 4 (Visibility) of the 2015 Ozone NAAQS Infrastructure SIP

III. Final Action

IV. Incorporation by Reference

V. Statutory and Executive Order Reviews

I. What is being addressed in this document?

The EPA is partially approving and partially disapproving Utah's regional haze plan for the second implementation period. As required by section 169A of the CAA, the RHR calls for State and Federal agencies to work together to improve visibility in 156 national parks and wilderness areas, known as mandatory Class I Federal areas.¹ The rule requires the States, in coordination with the EPA, the National Park Service, the Fish and Wildlife Service, the Forest Service, and other interested parties, to develop and implement air quality protection plans to reduce the pollution that causes visibility impairment in mandatory Class I Federal areas. Visibility impairing pollutants include fine and coarse particulate matter (PM) (e.g., sulfates, nitrates, organic carbon, elemental carbon, and soil dust) and their precursors (e.g., sulfur dioxide (SO2), oxides of nitrogen (NOX), and, in some cases, volatile organic compounds (VOC) and ammonia (NH3)). As discussed in further detail in our proposed rule, this document, and the accompanying Response to Comments (RTC) document, the EPA finds that Utah submitted a regional haze SIP that does not meet all of the statutory and regulatory requirements for the regional haze second implementation period.

¹ See 40 CFR part 81, subpart D.

Additionally, the EPA is disapproving a portion of Utah's January 9, 2020, infrastructure SIP submission for the 2015 ozone NAAQS that addresses interstate transport of visibility impairing pollutants. Utah submitted this SIP submission to address the applicable requirements of CAA section 110(a)(2) for the 2015 ozone NAAQS. We are disapproving the portion of the infrastructure SIP submission addressing interstate transport of visibility impairing pollutants for not meeting the requirements of CAA section 110(a)(2)(D)(i)(II) (“Prong 4”). The State's submissions, the proposed rule, and the RTC document can be found in the docket for this action.

II. Summary of the Proposed Action, Public Comments, and the EPA's Rationale for Final Action

Our notice of proposed rulemaking was published on August 19, 2024. 89 FR 67208. Our public comment period closed on September 18, 2024. During the public notice and comment period, we received more than 5,600 comments on our proposal. The full text of comments received is included in the publicly posted docket associated with this action at https://www.regulations.gov. Our RTC document, which is also included in the docket, provides full, detailed responses to all significant comments received and further explains the basis for our final action.

A. Regional Haze Plan for the Second Implementation Period

On August 2, 2022, Utah submitted a revision to its SIP to address regional haze for the second implementation period, in accordance with the requirements of the CAA's regional haze program established by CAA sections 169A and 169B and 40 CFR 51.308.

On August 19, 2024, the EPA proposed to disapprove certain provisions of Utah's regional haze SIP submission.² Specifically, we proposed to disapprove the portions of Utah's regional haze SIP submission relating to 40 CFR 51.308(f)(2): long-term strategy; 40 CFR 51.308(f)(3): reasonable progress goals; and 40 CFR 51.308(i): Federal Land Manager (FLM) consultation. We also proposed to approve the portions of Utah's regional haze SIP submission relating to 40 CFR 51.308(f)(1): calculations of baseline, current, and natural visibility conditions, progress to date, and the uniform rate of progress; 40 CFR 51.308(f)(4): reasonably attributable visibility impairment; 40 CFR 51.308(f)(5) and 40 CFR 51.308(g): progress report requirements; and 40 CFR 51.308(f)(6): monitoring strategy and other implementation plan requirements. Consistent with section 110(k)(3) of the CAA, the EPA may partially approve portions of a submittal if those elements meet all applicable requirements and may disapprove the remainder so long as the elements are fully separable.

² 89 FR 67208 (August 19, 2024).

Our August 19, 2024, proposed rule provided background on the requirements of the CAA and RHR, a summary of Utah's regional haze SIP submittals and related EPA actions, and the EPA's rationale for its proposed action. That background and rationale will not be restated in full here, although we briefly summarize the reasons for our partial disapproval of Utah's regional haze SIP submission in the paragraphs that follow.

In CAA section 169A(a)(1), Congress established the national goal of preventing any future and remedying any existing impairment of visibility in mandatory Class I Federal areas that results from manmade (anthropogenic) air pollution. The core component of a regional haze SIP submission for the second implementation period is a long-term strategy for making reasonable progress toward meeting that national goal. CAA section 169A(b)(2)(B), 40 CFR 51.308(f)(2). A state's long-term strategy must address regional haze in each Class I area within the state's borders and each Class I area outside the state that may be affected by emissions originating from within the state. It “must include the enforceable emissions limitations, compliance schedules, and other measures that are necessary to make reasonable progress, as determined pursuant to (f)(2)(i) through (iv).” 40 CFR 51.308(f)(2). The amount of progress that is “reasonable progress” is based on consideration of the four statutory factors in CAA section 169A(g)(1)—the costs of compliance, the time necessary for compliance, the energy and non-air quality environmental impacts of compliance, and the remaining useful life of any potentially affected sources ³—in an evaluation of potential control measures for sources of visibility impairing pollutants, which is referred to as a “four-factor” analysis. In developing its long-term strategy, the state must document the technical basis, including modeling, monitoring, cost, engineering, and emissions information, on which it is relying to determine the measures that are necessary to make reasonable progress. 40 CFR 51.308(f)(2)(iii).

³ CAA section 169A(g)(1); 40 CFR 51.308(f)(2)(i).

As detailed in section 3.A. of the RTC document, the CAA authorizes the EPA to substantively review states' SIP submissions for compliance with the statute and EPA's regulations to ensure progress towards the national visibility goal for Class I areas. Congress charged the EPA with exercising “federal oversight” over SIP submissions and “review[ing] all SIPs to ensure that the plans comply with the statute.” Oklahoma v. EPA, 723 F.3d 1201, 1204 (10th Cir. 2013). The “EPA is left with more than the ministerial task of routinely approving SIP submissions.” North Dakota v. EPA, 730 F.3d 750, 761 (8th Cir. 2013). Instead, the Agency's “review of a SIP extends not only to whether the state considered the necessary factors in its determination, but also to whether the determination is one that is reasonably moored to the CAA's provisions” and is “based on `reasoned analysis.' ” Id. at 761, 766 (citing Alaska Dep't of Envt. Conservation v. EPA, 540 U.S. 461 (2004)); see also Wyoming v. EPA, 78 F.4th 1171, 1180-81 (10th Cir. 2023) (noting that “the Act provides for substantive and careful EPA review” of SIP submissions and that “the EPA does not have to accept unreasonable analyses”). For the reasons stated in the proposed rule, this document, and in the RTC document, the EPA concludes that Utah's regional haze SIP submission does not meet all of the requirements of the CAA and RHR.

As detailed at length in our proposed rule and in the RTC document, we conclude that Utah's long-term strategy does not meet the requirements of CAA section 169A(b)(2) and 40 CFR 51.308(f)(2) on three independent grounds. Our first basis for disapproval of Utah's long-term strategy is the State's unreasonable rejection of NOX emission reduction measures at the Hunter and Huntington power plants. Based on its evaluation of the four statutory factors, Utah concluded that installation of selective catalytic reduction (SCR) or other physical NOX pollution controls is not necessary to achieve reasonable progress toward Congress's national visibility goal. Instead, Utah established plantwide mass-based NOX emission limits, which cap the total amount of NOX the Hunter and Huntington power plants can emit during a 12-month rolling period at levels that are similar to the status quo.⁴

⁴ 89 FR at 67234-37. Table 13 and figures 2-3 in the proposed rule show that both power plants' recent actual (2014-2021) NOX emissions were, in many years, lower than the initial (2022), interim (2025), and/or final (2028) mass-based emission limits. Table 12 shows that the final (2028) mass-based emission limits, which are the most stringent, will result in a net increase in NOX emissions of 8 tons per year from Hunter and Huntington combined, compared to the emissions projections based on an “on the books” (no additional controls) scenario for 2028 that Utah relied on in its SIP development.

Utah's determination that the plantwide mass-based NOX emission limits for Hunter and Huntington are all that is necessary to make reasonable progress is not grounded in a reasoned evaluation of the four statutory factors or a defensible technical analysis. Utah's assessment of the costs of compliance, one of the four statutory factors, hinged on its finding that physical controls that cost more than $5,750/ton are not cost-effective for the plants; a determination that likely reductions in the future utilization of Hunter and Huntington would reduce the cost-effectiveness of SCR; and concern about various affordability considerations associated with the installation of SCR, including an unsubstantiated conclusion that a requirement to install SCR may cause the plants to close early. As detailed in the proposed rule and in the RTC document,⁵ Utah did not provide adequate support for its analysis of and conclusions regarding the costs of compliance. Therefore, we find that Utah did not justify its conclusion that the costs of compliance favored mass-based emission limits over SCR for the Hunter and Huntington power plants.

⁵ 89 FR at 67240-43; RTC document, section 5.C.iv.

We also find that Utah's evaluation of the other three statutory factors (the time necessary for compliance, the energy and non-air quality environmental impacts of compliance, and the remaining useful life of any potentially affected anthropogenic source of visibility impairment) was unreasonable. Utah did not take into consideration the factual information supplied by the operator of the plants or the regulation governing how time necessary for compliance may be considered when concluding that the time necessary for compliance favored mass-based emission limits over SCR.⁶ For the energy and non-air quality impacts of SCR, Utah provided no analysis or documentation to support its assertion that because Hunter and Huntington are projected to assist in a transition toward intermittent renewable energy generation (e.g., wind and solar), a requirement to install SCR could lead to early plant closures and thereby negatively affect renewable energy deployment. In considering the plants' remaining useful lives, Utah did not adequately substantiate its concerns about early plant closures or its assessment that Hunter and Huntington would retire before the 30-year amortization period for SCR, further reducing SCR's cost-effectiveness. Utah also relied on the plants' projected retirement dates from the owner's resource plans, which frequently change and are not federally enforceable. For the reasons detailed in the proposed rule and in the RTC document,⁷ we find that Utah unreasonably concluded that the remaining three statutory factors support its determination that plantwide mass-based emission limits for the Hunter and Huntington power plants, instead of SCR, are all that is necessary to make reasonable progress toward the national visibility goal.

⁶ 40 CFR 51.308(f)(2)(i) provides that if a state concludes that a control measure cannot reasonably be installed and become operational until after the end of the implementation period, the state may not consider this fact in determining whether the measure is necessary to make reasonable progress.

⁷ 89 FR at 67244; RTC document, sections 5.C.iv-v.

Furthermore, the specific parameters of the mass-based emission limits that Utah established do not reflect reasoned analysis. In rejecting SCR, Utah relied on its unsupported conclusion that future utilization of Hunter and Huntington was likely to decrease, thereby eroding the cost-effectiveness of SCR.⁸ However, Utah then set the mass-based emission limits at levels premised on increased plant utilization, without acknowledging or reconciling the conflict in its treatment of plant utilization within its SIP submission.⁹ Nor did Utah adequately support its determination that mass-based emission limits that apply over the course of a 12-month rolling period, as opposed to a shorter time period such as monthly or seasonally, are sufficient to make reasonable progress.¹⁰ For all of these reasons, and as further detailed in our proposed rule and RTC document,¹¹ we are disapproving Utah's long-term strategy because the State did not reasonably evaluate the NOX emission reduction measures for Hunter and Huntington that are necessary to make reasonable progress toward Congress's national visibility goal. See CAA section 169A(g)(1); 40 CFR 51.308(f)(2).

⁸ All else equal, lower plant utilization results in physical controls such as SCR becoming relatively less cost-effective, because the cost per ton of emissions reduced increases as plant utilization decreases.

⁹ 89 FR at 67241-43; RTC document, section 5.C.iv.b.

¹⁰ 89 FR at 67244; RTC document, section 5.C.vi.

¹¹ 89 FR at 67240-44; RTC document, section 5.C.

Our second basis for disapproval of Utah's long-term strategy is the State's unjustified decision not to evaluate whether emission reduction measures at CCI Paradox Lisbon Natural Gas Plant are necessary for reasonable progress. Utah relied on inaccurately calculated 2020 emissions data and an incorrect determination that anomalously high SO2 emissions in 2014 and 2015 had caused the facility to exceed Utah's Q/d threshold ¹² for requiring four-factor analysis. In its comments on the proposed rule, Utah conceded that it had erroneously calculated the facility's Q/d value based on incorrect 2020 emissions data and noted its intention to submit a SIP revision or SIP supplement to address this issue. Because this deficiency has not been rectified, and as further detailed in our proposed rule and in the RTC document,¹³ we are disapproving Utah's long-term strategy because the State did not consider the emission reduction measures at CCI Paradox Lisbon Natural Gas Plant that are necessary to make reasonable progress toward the national visibility goal, as required by CAA section 169A(g)(1) and 40 CFR 51.308(f)(2).

¹² Q/d values represent the ratio of an individual source's annual emissions of visibility-impairing emission precursors (NOX, SO2, and PM10) in combined tons (“Q”) divided by the distance in kilometers (“d”) between the source and a Class I area. The larger the Q/d value, the greater the source's expected effect on visibility impairment in that Class I area.

¹³ 89 FR at 67245-48; RTC document, sections 4.B., 11.

Our third basis for disapproval of Utah's long-term strategy is the State's unreasonable rejection of SO2 emission reduction measures at Sunnyside Cogeneration and its incorporation of unsupported emission limits for that facility into its SIP. As explained in our proposed rule and in the RTC document, Utah unreasonably rejected dry scrubbing (also known as dry sorbent injection), a technically feasible SO2 control, without providing adequate technical documentation.¹⁴ After rejecting dry scrubbing, Utah determined that the facility's existing emission limits are necessary to achieve reasonable progress and incorporated those emission limits into its SIP.¹⁵ However, the SIP incorporates two separate emission limits for both NOX and SO2: one that applies during normal boiler operation and a higher limit that applies during startup, shutdown, and malfunction (SSM) events. Utah did not include a definition of the term “normal boiler operations” and did not provide any documentation of the frequency of normal boiler operations versus SSM events. Utah also did not explain how often the facility operates at the higher SSM emission limits and did not provide adequate technical documentation addressing how those higher limits relate to the State's obligation to make reasonable progress. In sum, due to Utah's unreasonable rejection of SO2 emission reduction measures and its inclusion of unsupported emission limits for Sunnyside Cogeneration into its SIP, we cannot conclude that the State's long-term strategy includes all the measures necessary to make reasonable progress.

¹⁴ 89 FR at 67249-50; RTC document, section 5.D.i.

¹⁵ 89 FR at 67250; RTC document, section 5.D.iii.

Our proposed rule identified a fourth basis for disapproval of Utah's long-term strategy: Utah's improper inclusion of automatic exemptions for SSM events in the emission restrictions for Intermountain power plant.¹⁶ After careful consideration of comments, we are not relying on this issue as a basis for our disapproval of Utah's long-term strategy in our final rule. Section 5.F.i. of the RTC document sets forth our rationale and contains our full responses to the comments we received regarding the SSM provisions for Intermountain power plant.

¹⁶ 89 FR at 67248-49.

Finally, in addition to disapproving the State's long-term strategy, we are disapproving Utah's reasonable progress goals under 40 CFR 51.308(f)(3) and its consultation with FLMs under 40 CFR 51.308(i). As detailed in our proposed rule and in the RTC document,¹⁷ compliance with these requirements is dependent on compliance with the long-term strategy provisions in 40 CFR 51.308(f)(2).

¹⁷ 89 FR at 67251; RTC document, sections 3.B., 6 (reasonable progress goals). 89 FR at 67253; RTC document, sections 3.C., 7 (FLM consultation).

B. Prong 4 (Visibility) of the 2015 Ozone NAAQS Infrastructure SIP

On January 9, 2020, Utah submitted its infrastructure SIP for the 2015 ozone NAAQS to address the applicable requirements of CAA section 110(a)(2). Subsequently, on August 19, 2024, the EPA proposed to disapprove the portion of Utah's January 9, 2020, infrastructure SIP submission for the 2015 ozone NAAQS that addressed interference with visibility protection (“Prong 4”).¹⁸ Our public comment period closed on September 18, 2024.

¹⁸ 89 FR 67208 (August 19, 2024).

Our August 19, 2024, proposed rule provided background on the requirements of CAA section 110(a)(2) for the 2015 ozone NAAQS, a summary of the portion of Utah's infrastructure SIP submittal being acted on and related EPA actions, and the EPA's rationale for its proposed action. That background and rationale will not be restated here. For the reasons stated in the proposed rule ¹⁹ and in section 12 of the accompanying RTC document, the EPA concludes that the Prong 4 portion of Utah's January 9, 2020, infrastructure SIP submission does not meet the requirements of CAA section 110(a)(2)(D)(i)(II).

¹⁹ 89 FR at 67253-54.

III. Final Action

For the reasons stated in the proposed rule, in the RTC document, and in this document, we are partially approving and partially disapproving Utah's regional haze SIP submission.²⁰

²⁰ Based on Utah's specific titles in the regional haze SIP submission, we are disapproving: (1) Section IX.H.21: General Requirements: Control measures for Area and Point Sources, Emission Limits and Operating Practices, Regional Haze Requirements; (2) Section IX.H.23. Source Specific Emission Limitations Regional Haze Requirements, Reasonable Progress Controls; and (3) R307-110-17. General Requirements: State Implementation Plan, Section IX, Control Measures for Area and Point Sources, Part H, Emission Limits. Additionally, based on Utah's specific titles in the regional haze SIP submission, and identified by the bullet list below, we are partially approving and partially disapproving: (1) Section XX.A: Regional Haze Second Implementation Period; and (2) R307-110-28. General Requirements: State Implementation Plan, Regional Haze.

We are disapproving the following components of Utah's regional haze SIP submission relating to CAA section 169A:

• Long-term strategy (40 CFR 51.308(f)(2));

• Reasonable progress goals (40 CFR 51.308(f)(3)); and

• FLM consultation (40 CFR 51.308(i)).

We are approving the following components of Utah's regional haze SIP submission relating to CAA section 169A:

• Calculations of baseline, current, and natural visibility conditions, progress to date, and uniform rate of progress (40 CFR 51.308(f)(1));

• Reasonably attributable visibility impairment (40 CFR 51.308(f)(4));

• Progress report requirements (40 CFR 51.308(f)(5) and 40 CFR 51.308(g)); and

• Monitoring strategy and other implementation plan requirements (40 CFR 51.308(f)(6)).

Additionally, as a consequence of our partial disapproval of Utah's regional haze SIP submission for the second implementation period, the EPA is disapproving the Prong 4 portion of Utah's January 9, 2020, infrastructure SIP for the 2015 ozone NAAQS, pursuant to CAA section 110(a)(2)(D)(i)(II).

IV. Incorporation by Reference

In this document, the EPA is finalizing regulatory text that includes incorporation by reference. In accordance with requirements of 1 CFR 51.5, the EPA is finalizing the incorporation by reference of R307-110-28, excluding long-term strategy, reasonable progress goals, and FLM consultation. The EPA has made, and will continue to make, this material generally available through https://www.regulations.gov and at the EPA Region 8 Office (please contact the person identified in the FOR FURTHER INFORMATION CONTACT section of this preamble for more information). Therefore, this material has been approved by the EPA for inclusion in Utah's SIP, has been incorporated by reference by the EPA into that plan, is fully federally enforceable under sections 110 and 113 of the CAA as of the effective date of the final rulemaking of the EPA's approval, and will be incorporated by reference in the next update to the SIP compilation.²¹

²¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action partially approves and partially disapproves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, the just treatment and meaningful involvement of all people, regardless of income, race, color, national origin, or Tribal affiliation, or disability in agency decision-making and other Federal activities that affect human health and the environment.

Utah evaluated EJ considerations as part of its SIP submittal even though the CAA and applicable implementing regulations neither prohibit nor require an evaluation. A summary of Utah's EJ considerations is contained in section VIII. of the proposed rule. The EPA also performed an EJ analysis, as described in the proposed rule. Both Utah's and the EPA's analyses were done for the purpose of providing additional context and information about this rulemaking to the public, not as a basis of the action. The EPA is taking action under the CAA on bases independent of Utah's evaluation of EJ. In addition, there is no information in the record upon which this decision is based that is inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by January 31, 2025. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Dated: November 22, 2024.
KC Becker,
Regional Administrator, Region 8.

For the reasons set forth in the preamble, 40 CFR part 52 is amended as follows:

PART 52—APPROVAL AND PROMULGATION OF IMPLEMENTATION PLANS

1. The authority citation for part 52 continues to read as follows:

Authority: 42 U.S.C. 7401 et seq.

Subpart TT—Utah

2. Amend § 52.2320 by

a. In the table in paragraph (c) revising the entry “R307-110-28”; and

b. In the table in paragraph (e) revising the entry “Section XX.A. Executive Summary”.

The revisions read as follows:

§ 52.2320 Identification of plan.

* * * * *

(c) * * *

Rule No. | Rule title | State effective date | Final rule citation, date | Comments
* * * * * * *
R307-110. General Requirements: State Implementation Plan
* * * * * * *
R307-110-28 | Regional Haze | 1/6/2022 | [insert Federal Register citation], 12/2/2024 | Except for long-term strategy, reasonable progress goals, and FLM consultation.
* * * * * * *

* * * * *

(e) * * *

Rule title | State effective date | Final rule citation, date | Comments
* * * * * * *
XX. Regional Haze
Section XX.A. Regional Haze Second Implementation Plan | 1/6/2022 | [insert Federal Register citation], 12/2/2024 | Except for long-term strategy, reasonable progress goals, and FLM consultation.
* * * * * * *

[FR Doc. 2024-27941 Filed 11-29-24; 8:45 am]

BILLING CODE 6560-50-P